DEPARTMENT OF COMMERCE

International Trade Administration

[A-570-967]

Aluminum Extrusions From the People's Republic of China: Preliminary Results of Antidumping Duty Administrative Review and Rescission, in Part; 2012/2013

AGENCY: Enforcement and Compliance, International Trade Administration, Department of Commerce.

SUMMARY: The Department of Commerce (“Department”) is conducting an administrative review of the antidumping duty order on aluminum extrusions from the People's Republic of China (“PRC”).¹ The period of review (“POR”) is May 1, 2012, through April 30, 2013. The review covers the following exporters of subject merchandise: mandatory respondents Guangzhou Jangho Curtain Wall System Engineering Co., Ltd. and Jangho Curtain Wall Hong Kong Ltd. (collectively “Jangho”), and the single entity comprised of Guang Ya Aluminum Industrial Co., Ltd. (“Guang Ya”), Foshan Guangcheng Aluminum Co., Ltd. (“Guangcheng”), Kong Ah International Co., Ltd. (“Kong Ah”), and Guang Ya Aluminum Industries (Hong Kong) Ltd. (“Guang Ya HK”) (collectively “Guang Ya Group”); Guangdong Zhongya Aluminum Co., Ltd. (“Zhongya”), Zhongya Shaped Aluminum (HK) Holding Ltd. (“Shaped Aluminum”), and Karlton Aluminum Co., Ltd. (“Karlton”) (collectively “Zhongya”), and Foshan Nanhai Xinya Aluminum & Stainless Steel Product Co., Ltd. (“Xinya”) (collectively “Guang Ya Group/Zhongya/Xinya”); and Kromet International, Inc. (“Kromet”), a voluntary respondent. The Department preliminarily finds that Kromet did not make sales of subject merchandise at less than normal value. In addition, the Department preliminarily determines that Jangho and Guang Ya Group/Zhongya/Xinya failed to demonstrate that they were eligible for separate-rate status and thus have been included in the PRC-wide entity. We also preliminarily determine that three companies, Hong Kong Gree Electric Appliances Sales Limited (“Gree”), Jiuyuan Co., Ltd. (“Jiuyuan”), and Shenzhen Hudson Technology Development Co., Ltd. (“Shenzhen Hudson”) had no shipments.

¹ The Department initiated this review on June 28, 2013. See Initiation of Antidumping and Countervailing Duty Administrative Reviews and Request for Revocation in Part, 78 FR 38924 (June 28, 2013) (“Initiation Notice”).

DATES: Effective: June 25, 2014.

FOR FURTHER INFORMATION CONTACT: Paul Stolz or Laurel LaCivita, AD/CVD Operations, Office III, Enforcement and Compliance, International Trade Administration, Department of Commerce, 1401 Constitution Avenue NW., Washington, DC 20230; telephone: (202) 482-4474 or (202) 482-4243, respectively.

SUPPLEMENTARY INFORMATION:

Scope of the Order

The merchandise covered by the Order ² is aluminum extrusions which are shapes and forms, produced by an extrusion process, made from aluminum alloys having metallic elements corresponding to the alloy series designations published by The Aluminum Association commencing with the numbers 1, 3, and 6 (or proprietary equivalents or other certifying body equivalents).³

² See Aluminum Extrusions from the People's Republic of China: Antidumping Duty Order, 76 FR 30650 (May 26, 2011) (“Order”).

³ See “Decision Memorandum for Preliminary Results of Antidumping Duty Administrative Review: Aluminum Extrusions from the People's Republic of China,” from Christian Marsh, Deputy Assistant Secretary for Antidumping and Countervailing Duty Operations to Ronald K. Lorentzen, Acting Assistant Secretary for Enforcement and Compliance, dated concurrently with this notice (“Preliminary Decision Memorandum”) for a complete description of the scope of the Order.

Imports of the subject merchandise are provided for under the following categories of the Harmonized Tariff Schedule of the United States (“HTSUS”): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8418.99.80.05, 8418.99.80.50, 8418.99.80.60, 8419.90.10.00, 8422.90.06.40, 8479.90.85.00, 8486.90.00.00, 8487.90.00.80, 8503.00.95.20, 8516.90.50.00, 8516.90.80.50, 8708.80.65.90, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.

Partial Rescission of Review

For those companies named in the Initiation Notice for which all review requests have been timely withdrawn and which were eligible for separate rate status at the initiation of this review, we are rescinding this administrative review, in accordance with 19 CFR 351.213(d)(1). These companies are listed at Appendix II to this notice. For these companies, antidumping duties shall be assessed at rates equal to the rates of the cash deposits for estimated antidumping duties required at the time of entry, or withdrawal from warehouse, for consumption, in accordance with 19 CFR 351.212(c)(2).

For those companies named in the Initiation Notice for which all review requests have been withdrawn, but which were not eligible for separate-rate status at the initiation of this review, the Department's practice is to refrain from rescinding the review with respect to these companies at this time. While the requests for review of these companies were timely withdrawn, the companies remain part of the PRC-wide entity. These companies are listed at Appendix III to this notice. The PRC-wide entity is under review for these preliminary results. Thus, we are not rescinding this review with respect to these companies, but the Department will make a determination with respect to the PRC-wide entity at the conclusion of this review.

Separate Rates

In the Initiation Notice, we informed parties of the opportunity to request a separate rate. In proceedings involving non-market economy (“NME”) countries, the Department begins with a rebuttable presumption that all companies within the NME country are subject to government control and, thus, should be assigned a single weighted-average dumping margin. It is the Department's policy to assign all exporters of merchandise subject to an administrative review involving an NME country this single rate unless an exporter can demonstrate that it is sufficiently independent so as to be entitled to a separate rate. Companies that wanted to be considered for a separate rate in this review were required to timely file a separate-rate application (“SRA”) or a separate-rate certification to demonstrate their eligibility for a separate rate. Separate-rate applications and separate-rate certifications were due to the Department within 60 calendar days of the publication of the Initiation Notice.

In this review, 21 exporters for which a review was requested did not submit separate-rate information to rebut the presumption that, like all companies within the PRC, they are subject to government control.⁴ These companies are listed at Appendix IV to this notice. As further discussed in the Preliminarily Decision Memorandum, we determine that these entities have not demonstrated that they operate free from government control. Thus, we preliminary determine that they are part of the PRC-wide entity.

⁴ One company, Zhaoqing New Zhongya Aluminum Co., Ltd. (“New Zhongya”), was determined to have been succeeded by Guangdong Zhongya Aluminum Company Limited (“Guangdong Zhongya”) in a changed circumstances review. See Aluminum Extrusions From the People's Republic of China: Final Results of Changed Circumstances Review, 77 FR 54900 (September 6, 2012). Thus, despite the fact that a review was initiated of New Zhongya, it is not being included in this list of companies because its successor in interest, Guangdong Zhongya, is part of the Guang Ya/Zhongya/Xinya single entity.

An additional five companies under review submitted SRAs, but, as further discussed in the Preliminary Decision Memorandum, we preliminarily determine not to grant these companies a separate rate.⁵

⁵ These five companies are: (1) Guangdong Zhongya Aluminum Company Limited; (2) Guangzhou Jangho Curtain Wall System Engineering Co., Ltd. and Jangho Curtain Wall Hong Kong Ltd. (collectively, Jangho); (3) Nidec Sankyo (Zhejiang) Corporation; (4) Taizhou Lifeng Manufacturing Corporation; (5) Zhongya Shaped Aluminum (HK) Holding Limited.

Nineteen separate-rate applicants still under review submitted SRAs and responses to supplemental questionnaires which provide sufficient information to preliminarily determine that they are entitled to a separate rate. A full discussion of the basis for granting these companies a separate rate can be found in the Preliminary Decision Memorandum.

Rate for Non-Examined Companies Which Are Eligible for a Separate Rate

The Department intends to assign to non-examined, separate-rate companies the weighted-average dumping margin assigned to non-examined, separate-rate companies in the final determination of the antidumping investigation.⁶ Neither the Act nor the Department's regulations address the establishment of the rate applied to individual companies not selected for examination where the Department limited its examination in an administrative review pursuant to section 777A(c)(2) of the Act. The Department's practice in cases involving limited selection based on exporters accounting for the largest volumes of trade has been to look to section 735(c)(5) of the Act for guidance, which provides instructions for calculating the all-others rate in an investigation. Section 735(c)(5)(A) of the Act instructs the Department to avoid calculating an all-others rate using any rates that are zero, de minimis, or based entirely on facts available in investigations. The Department's regulations further state that in calculating the all-others rate under section 735(c)(5) of the Act, the Department will exclude estimated weighted-average dumping margin rates calculated for voluntary respondents.⁷ Section 735(c)(5)(B) of the Act provides that, where all rates are zero, de minimis, or based entirely on facts available, the Department may use “any reasonable method” for assigning a rate to non-examined respondents.

⁶ See Aluminum Extrusions From the People's Republic of China: Final Results of Antidumping Duty Administrative Review and Rescission, in Part, 2010/12, 79 FR 96, 99 (January 2, 2014) (“Final Results of Aluminum Extrusions AR1”).

⁷ See 19 CFR 351.204(d)(3). See also Antidumping Duties; Countervailing Duties, 62 FR 27296, 27310 (May 19, 1997).

We preliminarily determine that the application of the rate from the investigation to the non-examined separate-rate respondents is consistent with precedent ⁸ and the most appropriate method to determine the separate rate in the instant review.⁹ Pursuant to this method, we are assigning the margin of 32.79 percent, the most recent margin (from the less-than-fair-value investigation) calculated for the non-examined separate-rate respondents, to the non-examined separate-rate respondents in the instant review.

⁸ See, e.g., Certain Frozen Warmwater Shrimp From the People's Republic of China: Preliminary Results and Preliminary Partial Rescission of Fifth Antidumping Duty Administrative Review, 76 FR 8338, 8342 (February 14, 2011), unchanged in Administrative Review of Certain Frozen Warmwater Shrimp From the People's Republic of China: Final Results and Partial Rescission of Antidumping Duty Administrative Review, 76 FR 51940 (August 19, 2011); see also Administrative Review of Certain Frozen Warmwater Shrimp From the People's Republic of China: Final Results and Partial Rescission of Antidumping Duty Administrative Review, 75 FR 49460, 49463 (August 13, 2010).

⁹ This is also consistent with the Department's decision in the first administrative review of the Order. See Final Results of Aluminum Extrusions AR1 at 79 FR at 99.

Preliminary Determination of No Shipments

Four companies submitted timely certifications indicating that they had no shipments of subject merchandise to the United States during the POR.¹⁰ Consistent with its practice, the Department asked U.S. Customs and Border Protection (“CBP”) to conduct a query on potential shipments made by Gree, Jiuyuan, Shenzhen Hudson and Skyline Exhibit Systems (Shanghai) Co., Ltd. (“Skyline”) during the POR; CBP provided no evidence that contradicted the claims of no shipments submitted by Gree, Jiuyuan, and Shenzen Hudson.¹¹ The Department otherwise received no comments from interested parties concerning the results of the CBP query. However, CBP provided information that contradicted Skyline's claim of no shipments during the POR. We intend to follow-up with CBP concerning this information subsequent to these preliminary results and to allow Skyline to comment on this discrepancy. For these preliminary results, we preliminarily determine that Skyline had shipments of subject merchandise during the POR, failed to submit an SRA or SRC, and is thus part of the PRC-wide entity.

¹⁰ See letter from Gree, “Aluminum Extrusions from the People's Republic of China: No Shipment Certification” dated August 27, 2013; letter from Jiuyuan, “Re: Aluminum Extrusions from the People's Republic of China: No Shipment Letter,” dated August 24, 2013; letter from Shenzhen Hudson, “Shenzhen Hudson No Shipment Letter and Withdrawal of Review Request in the Second Administrative Review of Antidumping Duty Order on Aluminum Extrusions from the People's Republic of China,” dated August 26, 2013; and, letter from Skyline, “Aluminum Extrusions from the People's Republic of China: Certification of No Sales, Shipments, or Entries and Quantity &Value Questionnaire Response,” dated August 26, 2013.

¹¹ See CBP Message Number, 4154301, dated 06/03/2014.

Based on the certifications from Gree, Jiuyuan, and Shenzhen Hudson, and our analysis of CBP information, we preliminarily determine that Gree, Jiuyuan, and Shenzhen Hudson had no shipments during the POR. In addition, the Department finds that, consistent with its assessment practice in NME cases, it is appropriate not to rescind the review in part in this circumstance, but rather to complete the review with respect to Gree, Jiuyuan, and Shenzhen Hudson and issue appropriate instructions to CBP based on the final results of the review.¹²

¹² See Non-Market Economy Antidumping Proceedings: Assessment of Antidumping Duties, 76 FR 65694, 65694-95 (October 24, 2011) and the “Assessment Rates” section, below.

PRC-Wide Entity

Jangho and Guang Ya Group/Zhongya/Xinya,¹³ the companies that the Department selected as mandatory respondents in this administrative review, failed to respond to the Department's requests for information or declined to participate in this review. These companies, therefore, are not eligible for separate rate status.¹⁴ Additionally, 21 remaining companies subject to these preliminary results are not eligible for separate-rate status because they did not submit separate-rate applications or certifications, or certifications of no shipments. As a result, these 27 companies are under review as part of the PRC-wide entity.¹⁵ ¹⁶

¹³ The following five companies are part of the Guang Ya Group/Zhongya/Xinya entity for which request for review has not been withdrawn: (1) Guang Ya Aluminum Industries Co. Ltd.; (2) Guangdong Zhongya Aluminum Company Limited; (3) Kong Ah International Company Limited; (4) Zhaoqing New Zhongya Aluminum Co., Ltd.; and (5) Zhongya Shaped Aluminum (HK) Holding Limited.

¹⁴ See Initiation Notice, 78 FR at 38924-38925.

¹⁵ See Appendix IV.

¹⁶ See the Preliminary Decision Memorandum.

Methodology

The Department conducted this review in accordance with section 751(a)(1)(B) of the Act. Export and constructed export prices have been calculated in accordance with sections 772(a) and (b) of the Act. Because the PRC is a NME within the meaning of section 771(18) of the Act, the Department calculated normal value in accordance with section 773(c) of the Act.

For a full description of the methodology underlying our preliminary results, please see the Preliminary Decision Memorandum, which is hereby adopted by this notice. The Preliminary Decision Memorandum is a public document and is on file electronically via Enforcement and Compliance's Antidumping and Countervailing Duty Centralized Electronic Service System (“IA ACCESS”). IA ACCESS is available to registered users at http://iaaccess.trade.gov, and it is available to all parties in the Central Records Unit, Room 7046 of the main Department of Commerce building. In addition, a complete version of the Preliminary Decision Memorandum can be accessed directly on the internet at http://www.trade.gov/enforcement/. The signed Preliminary Decision Memorandum and the electronic versions of the Preliminary Decision Memorandum are identical in content.

Adjustment Under Section 777A(f) of the Act

Pursuant to section 777A(f) of the Act, the Department preliminarily made an adjustment for countervailable domestic subsidies which have been found to have impacted U.S. prices. For the non-examined companies which are eligible for a separate rate, as noted above, their weighted-average dumping margin is based on the weighted-average dumping margin for non-examined, separate-rate companies in the less-than-fair-value investigation. This rate was based on the average of the petition rates, which were based on prices for sales of subject merchandise to the United States. In the companion CVD investigation and companion CVD first administrative review, the Department did not individually examine certain PRC exporters whose prices were the basis for the petition rates. Therefore, those companies were assigned the all-other exporters rate as determined in the amended final determination for the CVD investigation, and a non-selected company rate as determined in the final results of the CVD first administrative review.

Accordingly, in this review, for exporters that did not receive a non-selected company rate in the companion CVD first administrative review, the adjustment to account for domestic subsidies is based on the domestic subsidy rates found for all-other exporters in the CVD investigation. For companies that received a non-selected company rate in the companion CVD first administrative review, the adjustment to account for domestic subsidies is based on the countervailing duties found for the non-selected companies in the first administrative review. For Changzhou Changzheng Evaporator Co., Ltd. (“Changzheng Evaporator”), which had its own calculated rate in the CVD first administrative review, the adjustment to account for domestic subsidies is based on the countervailing duties found for Changzheng Evaporator in the CVD first administrative review. The Department found that the rate of these domestic subsidies determined to have passed through to U.S. prices is the product of (1) the applicable CVD program rates and (2) the documented ratio of cost-price changes for the Chinese manufacturing sector as a whole, which is based on data available from Bloomberg.¹⁷ Finally, for Kromet, no such adjustment is necessary because Kromet's weighted-average dumping margin is zero in these preliminary results.

¹⁷ See Preliminary Decision Memorandum at Attachment 1.

Pursuant to section 772(c)(1)(C) of the Act, the Department also made an adjustment for countervailable export subsidies. For Kromet, an adjustment has been made to its reported U.S. price.¹⁸ For the companies eligible for a separate rate, an adjustment has been made based on the countervailable export subsidy found for all-other exporters in the amended final determination for the countervailing duty investigation, if the company did not participate in the first CVD administrative review.¹⁹ For companies that participated in the first CVD administrative review, an adjustment has been made based on the countervailable export subsidy for the non-selected companies from the final results of the first administrative review (or its own calculated rate, in the case of Changzheng Evaporator).

¹⁸ See Prelim Analysis Memorandum.

¹⁹ See Aluminum Extrusions From the People's Republic of China: Notice of Court Decision Not in Harmony With Final Affirmative Countervailing Duty Determination and Notice of Amended Final Affirmative Countervailing Duty Determination, 77 FR 74466 (December 14, 2012).

Preliminary Results of Review

The Department preliminarily determines that the following weighted-average dumping margins exist for the POR:

Exporter | Weighted-average dumping margin ²⁰ (percent)
Kromet International, Inc | 0.00
Allied Maker Limited | 32.79
Changzhou Changzheng Evaporator Co., Ltd | 32.79
Classic & Contemporary Inc | 32.79
Dynabright Int'l Group (HK) Limited | 32.79
Hanyung Metal (Suzhou) Co., Ltd | 32.79
Global Point Technology (Far East) Limited ²¹ | 32.79
Jiangsu Changfa Refrigeration Co., Ltd | 32.79
Jiaxing Jackson Travel Products Co., Ltd | 32.79
Justhere Co., Ltd | 32.79
Kam Kiu Aluminium Products Sdn Bhd ²² | 32.79
Metaltek Group Co., Ltd | 32.79
Midea International Trading Co., Ltd | 32.79
Permasteelisa Hong Kong Limited ²³ | 32.79
Shanghai Tongtai Precise Aluminum Alloy Manufacturing Co., Ltd | 32.79
Sincere Profit Limited | 32.79
tenKsolar (Shanghai) Co., Ltd | 32.79
Tianjin Jinmao Import & Export Corp., Ltd | 32.79
Union Industry (Asia) Co., Ltd | 32.79
PRC-wide Entity | 33.28

Disclosure and Public Comment

The Department intends to disclose to the parties the calculations performed for these preliminary results within five days of the date of publication of this notice in accordance with 19 CFR 351.224(b). Interested parties may submit case briefs no later than 30 days after the date of publication of these preliminary results of review.²⁴ Rebuttal briefs, limited to issues raised in the case briefs, may be filed no later than five days after the case briefs are filed.²⁵

²⁰ For the Separate Rate Companies (i.e., all companies other than Kromet), the Department intends to adjust the weighted-average dumping margin, for both cash deposit and liquidation purposes, as explained above in the section “Adjustment Under Section 777A(f) of the Act.” See Preliminary Decision Memorandum at Attachment 2 for calculations showing the export subsidy, domestic subsidy, pass-through rate, and net adjustments.

²¹ Though the Department initiated a review for “Hoff Associates Mfg Reps Inc. (dba Global Point Technology, Inc.) and Global Point Technology (Far East) Limited (collectively, Global Point),” it is apparent, from the company's SRA, that Hoff Associates Mfg Reps Inc. (dba Global Point Technology, Inc.) is the U.S. importer, while Global Point Technology (Far East) Limited is the exporter, and thus the appropriate party to which to grant the separate rate status.

²² Though the Department initiated a review for both Taishan City Kam Kiu Aluminum Extrusions Co., Ltd. and Kam Kiu Aluminium Products Sdn Bhd, it is apparent from the company's SRA, that Kam Kiu Aluminium Products Sdn Bhd is the exporter and Taishan City Kam Kiu Aluminum Extrusions Co., Ltd. is a producer only; thus, Kam Kiu Aluminium Products Sdn Bhd is the appropriate party to grant the separate rate status.

²³ Though the Department initiated a review for “Permasteelisa South China Factory (Permasteelisa China) and Permasteelisa Hong Kong Limited,” it is apparent from the company's SRA, that Permasteelisa Hong Kong Limited is the exporter and Permasteelisa South China Factory (Permasteelisa China) is a producer only; thus Permasteelisa Hong Kong Limited is the appropriate party to grant the separate rate status.

²⁴ See 19 CFR 351.309(c).

²⁵ See 19 CFR 351.309(d).

Any interested party may request a hearing within 30 days of publication of this notice.²⁶ Hearing requests should contain the following information: (1) The party's name, address, and telephone number; (2) the number of participants; and (3) a list of the issues to be discussed. Oral presentations will be limited to issues raised in the case and rebuttal briefs. If a request for a hearing is made, parties will be notified of the time and date for the hearing to be held at the U.S. Department of Commerce, 1401 Constitution Avenue NW., Washington, DC 20230.²⁷

²⁶ See 19 CFR 351.310(c).

²⁷ See 19 CFR 351.310(d)(1).

Unless otherwise extended, the Department intends to issue the final results of this administrative review, which will include the results of its analysis of issues raised in the case and rebuttal briefs, within 120 days of publication of these preliminary results, pursuant to section 751(a)(3)(A) of the Act.

Assessment Rates

Upon issuance of the final results of this review, the Department will determine, and CBP shall assess, antidumping duties on all appropriate entries covered by this review.²⁸ The Department intends to issue appropriate assessment instructions to CBP 15 days after publication of the final results of this review.

²⁸ See 19 CFR 351.212(b)(1).

For each individually examined respondent whose weighted-average dumping margin is not zero or de minimis (i.e., less than 0.5 percent), we will calculate importer-specific ad valorem duty assessment rates based on the ratio of the total amount of dumping calculated for the importer's examined sales to the total entered value of those same sales in accordance with 19 CFR 351.212(b)(1).²⁹ For duty assessment rates calculated on this basis, we will direct CBP to assess the resulting ad valorem rate against the entered customs values for the subject merchandise. If the weighted-average dumping margin for the exporter is zero or de minimis, or if the importer-specific assessment rate is zero or de minimis, then the Department will instruct CBP to liquidate the appropriate entries without regard to antidumping duties.

²⁹ In these preliminary results, the Department applied the assessment rate calculation method adopted in Antidumping Proceedings: Calculation of the Weighted-Average Dumping Margin and Assessment Rate in Certain Antidumping Proceedings: Final Modification, 77 FR 8101 (February 14, 2012).

On October 24, 2011, the Department announced a refinement to its assessment practice in NME cases. Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.³⁰

³⁰ See Non-Market Economy Antidumping Proceedings: Assessment of Antidumping Duties, 76 FR 65694, 65694-95 (October 24, 2011).

The final results of this review shall be the basis for the assessment of antidumping duties on entries of merchandise covered by the final results of this review and for future deposits of estimated duties, where applicable.

Cash Deposit Requirements

The following cash deposit requirements for estimated antidumping duties, when imposed, will apply to all shipments of subject merchandise entered, or withdrawn from warehouse, for consumption on or after the publication of the final results of this administrative review, as provided by section 751(a)(2)(C) of the Act: (1) If the companies preliminarily determined to be eligible for a separate rate receive a separate rate in the final results of this administrative review, their cash deposit rate will be equal to the weighted-average dumping margin established in the final results of this review, as adjusted for domestic and export subsidies (except, if that rate is de minimis, then the cash deposit rate will be zero); (2) for any previously investigated or reviewed PRC and non-PRC exporter that is not under review in this segment of the proceeding but that received a separate rate in the most recently completed segment of this proceeding, the cash deposit rate will continue to be the exporter-specific rate published for the most recently completed segment of this proceeding; (3) for all PRC exporters of subject merchandise that have not been found to be entitled to a separate rate, the cash deposit rate will be equal to the cash deposit rate for the PRC-wide entity, which will be equal to the weighted-average dumping margin assigned to the PRC-wide entity in the final results of this administrative review; ³¹ and (4) for all non-PRC exporters of subject merchandise which have not received their own rate, the cash deposit rate will be the rate applicable to the PRC exporter(s) that supplied that non-PRC exporter. These cash deposit requirements, when imposed, shall remain in effect until further notice.

³¹ See Aluminum Extrusions from the People's Republic of China: Final Determination of Sales at Less Than Fair Value, 76 FR 18524 (April 4, 2011) (“Final Determination”) and Order.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

We are issuing and publishing notice of these results in accordance with sections 751(a)(1) and 777(i)(1) of the Act.

Dated: June 18, 2014.
Ronald K. Lorentzen,
Acting Assistant Secretary for Enforcement and Compliance.

Appendix I

List of Topics Discussed in the Preliminary Decision Memorandum

1. Summary

2. Background

3. Respondent Selection

4. Scope of the Order

5. Partial Rescission of Administrative Review

6. Affiliation and Collapsing

7. Non-Market Economy Country

8. Separate Rates

9. Separate-Rate Recipients

10. Rate for Separate-Rate Recipients

11. The PRC-Wide Entity

12. Application of Facts Available

13. Application of Adverse Facts Available to the PRC-Wide Entity

14. Selection of Adverse Facts Available Rate

15. Corroboration of Secondary Information Used as AFA

16. Surrogate Country and Surrogate Value Data

17. Surrogate Country

18. Economic Comparability

19. Significant Producers of Identical or Comparable Merchandise

20. Data Availability

21. Date of Sale

22. Comparisons to Normal Value

23. Determination of Comparison Method

24. Results of the Differential Pricing Analysis

25. Export Price and Constructed Export Price

26. Value-Added Tax

27. Normal Value

28. Factor Valuations

29. Adjustment Under Section 777A(f) of the Act

30. Currency Conversion

31. Recommendation

Appendix II

Separate-rate companies for which we are rescinding this administrative review:

1. Exporter Changshu Changshen Aluminium Products Co., Ltd., for manufacturer Changshu Changshen Aluminium Products Co., Ltd.

2. Exporter Cosco (J.M.) Aluminium Co., Ltd., for manufacturers Cosco (J.M.) Aluminum Co., Ltd. or Jiangmen Qunxing Hardware Diecasting Co., Ltd.

3. Exporter First Union Property Limited, for manufacturer Top-Wok Metal Co., Ltd.

4. Exporter Foshan Shanshui Fenglu Aluminium Co., Ltd., for manufacturer Foshan Shanshui Fenglu Aluminium Co., Ltd.

5. Exporter Guangdong Hao Mei Aluminium Co., Ltd., for manufacturer Guangdong Hao Mei Aluminium Co., Ltd.

6. Exporter Guangdong Weiye Aluminium Factory Co., Ltd., for manufacturer Guangdong Weiye Aluminium Factory Co., Ltd.

7. Exporter Guangdong Xingfa Aluminium Co., Ltd., for manufacturer Guangdong Xingfa Aluminium Co., Ltd.

8. Exporter Hanwood Enterprises Limited, for manufacturer Pingguo Aluminium Company Limited

9. Exporter Honsense Development Company, for manufacturer Kanal Precision Aluminium Product Co., Ltd.

10. Exporter Innovative Aluminium (Hong Kong) Limited, for manufacturer Taishan Golden Gain Aluminium Products Limited

11. Exporter Jiangyin Trust International Inc, for manufacturer Jiangyin Xinhong Doors and Windows Co., Ltd.

12. Exporter JMA (HK) Company Limited, for manufacturers Guangdong Jianmei Aluminum Profile Company Limited or Foshan JMA Aluminium Company Limited

13. Exporter Longkou Donghai Trade Co., Ltd., for manufacturer Shandong Nanshan Aluminum Co., Ltd.

14. Exporter Ningbo Yili Import and Export Co., Ltd., for manufacturer Zhejiang Anji Xinxiang Aluminum Co., Ltd.

15. Exporter North China Aluminum Co., Ltd., for manufacturer North China Aluminum Co., Ltd.

16. Exporter PanAsia Aluminium (China) Limited, for manufacturer PanAsia Aluminium (China) Limited

17. Exporter Pingguo Asia Aluminum Co., Ltd., for manufacturer Pingguo Asia Aluminum Co., Ltd.

18. Exporter Popular Plastics Company Limited, for manufacturer Hoi Tat Plastic Mould & Metal Factory

19. Exporter Press Metal International Ltd., for manufacturer Press Metal International Ltd.

20. Exporter Tai-Ao Aluminium (Taishan) Co., Ltd., for manufacturer Tai-Ao Aluminium (Taishan) Co., Ltd.

21. Exporter Tianjin Ruixin Electric Heat Transmission Technology Co., Ltd., for manufacturer Tianjin Ruixin Electric Heat Transmission Technology Co., Ltd.

22. Exporter USA Worldwide Door Components (Pinghu) Co., Ltd., for manufacturers USA Worldwide Door Components (Pinghu) Co., Ltd. or Worldwide Door Components (Pinghu) Co.

23. Exporter Zhejiang Yongkang Listar Aluminum Industry Co., Ltd., for manufacturer Zhejiang Yongkang Listar Aluminum Industry Co., Ltd.

24. Exporter Zhongshan Gold Mountain Aluminium Factory Ltd., for manufacturer Zhongshan Gold Mountain Aluminium Factory Ltd.

Appendix III

Companies that are part of the PRC-wide entity for which request for review has been withdrawn:

1. Exporter Acro Import and Export Co.

2. Exporter Activa International Inc.

3. Exporter Bracalente Metal Products (Suzhou) Co. Ltd.

4. Exporter Changshu Changshen Aluminium Products Co., Ltd., for any manufacturer other than Changshu Changshen Aluminium Products Co., Ltd.

5. Exporter Changzhou Tenglong Auto Parts Co., Ltd.

6. Exporter Clear Sky Inc.

7. Exporter Cosco (J.M.) Aluminium Co., Ltd., for any manufacturers other than Cosco (J.M.) Aluminum Co., Ltd. or Jiangmen Qunxing Hardware Diecasting Co., Ltd.

8. Exporter Dongguan Aoda Aluminum Co., Ltd.

9. Exporter Dragonluxe Limited

10. Exporter Dynamic Technologies China

11. Exporter First Union Property Limited, for any manufacturer other than Top-Wok Metal Co., Ltd.

12. Exporter Foreign Trade Co. of Suzhou New & Hi-Tech Industrial Development Zone

13. Exporter Foshan City Nanhai Hongjia Aluminum Alloy Co.

14. Exporter Foshan Guancheng Aluminum Co., Ltd.

15. Exporter Foshan Jinlan Aluminum Co. Ltd.

16. Exporter Foshan JMA Aluminum Company Limited

17. Exporter Foshan Shanshui Fenglu Aluminium Co., Ltd., for any manufacturer other than Foshan Shanshui Fenglu Aluminium Co., Ltd.

18. Exporter Foshan Yong Li Jian Alu. Ltd.

19. Exporter Fujian Sanchuan Aluminum Co., Ltd.

20. Exporter Global PMX Dongguan Co., Ltd.

21. Exporter Golden Dragon Precise Copper Tube Group, Inc.

22. Exporter Gree Electric Appliances

23. Exporter Guangdong Hao Mei Aluminium Co., Ltd., for any manufacturer other than Guangdong Hao Mei Aluminium Co., Ltd.

24. Exporter Guangdong Jianmei Aluminum Profile Company Limited

25. Exporter Guangdong Nanhai Foodstuffs Imp. & Exp. Co., Ltd.

26. Exporter Guangdong Weiye Aluminium Factory Co., Ltd., for any manufacturer other than Guangdong Weiye Aluminium Factory Co., Ltd.

27. Exporter Guangdong Xingfa Aluminium Co., Ltd., for any manufacturer other than Guangdong Xingfa Aluminium Co., Ltd.

28. Exporter Hangzhou Zingyi Metal Products Co., Ltd.

29. Exporter Hanwood Enterprises Limited, for any manufacturer other than Pingguo Aluminium Company Limited

30. Exporter Hao Mei Aluminum Co., Ltd.

31. Exporter Hao Mei Aluminum International Co., Ltd.

32. Exporter Honsense Development Company, for any manufacturer other than Kanal Precision Aluminium Product Co., Ltd.

33. Exporter Hui Mei Gao Aluminum Foshan Co., Ltd.

34. Exporter Idex Health

35. Exporter Innovative Aluminium (Hong Kong) Limited, for any manufacturer other than Taishan Golden Gain Aluminium Products Limited

36. Exporter iSource Asia

37. Exporter Jiangmen Qunxing Hardware Diecasting Co., Ltd.

38. Exporter Jiangyin Trust International Inc., for any manufacturer other than Jiangyin Xinhong Doors and Windows Co., Ltd.

39. Exporter Jiangyin Xinhong Doors and Windows Co., Ltd.

40. Exporter Jiaxing Taixin Metal Products Co., Ltd.

41. Exporter JMA (HK) Company Limited, for any manufacturers other than Guangdong Jianmei Aluminum Profile Company Limited or Foshan JMA Aluminium Company Limited

42. Exporter Kanal Precision Aluminum Product Co., Ltd.

43. Exporter Karlton Aluminum Company Ltd.

44. Exporter Kunshan Giant Light Metal Technology Co., Ltd.

45. Exporter Liaoyang Zhongwang Aluminum Profiled Co. Ltd.

46. Exporter Longkou Donghai Trade Co., Ltd., for any manufacturer other than Shandong Nanshan Aluminum Co., Ltd.

47. Exporter Metaltek Metal Industry Co., Ltd.

48. Exporter Midea Air Conditioning Equipment Co., Ltd.

49. Exporter Miland Luck Limited

50. Exporter Nanhai Textiles Import & Export Co., Ltd. Of Guangdong

51. Exporter New Asia Aluminum & Stainless Steel Product Co., Ltd.

52. Exporter Nidec Sankyo Singapore Pte. Ltd.

53. Exporter Ningbo Coaster International Co., Ltd.

54. Exporter Ningbo HiTech Reliable Manufacturing Company

55. Exporter Ningbo Yili Import and Export Co., Ltd., for any manufacturer other than Zhejiang Anji Xinxiang Aluminum Co., Ltd.

56. Exporter North China Aluminum Co., Ltd., for any manufacturer other than North China Aluminum Co., Ltd.

57. Exporter Northern States Metals

58. Exporter PanAsia Aluminium (China) Limited, for any manufacturer other than PanAsia Aluminium (China) Limited

59. Exporter Pingguo Aluminum Company Limited

60. Exporter Pingguo Asia Aluminum Co., Ltd., for any manufacturer other than Pingguo Asia Aluminum Co., Ltd.

61. Exporter Popular Plastics Company Limited, for any manufacturer other than Hoi Tat Plastic Mould & Metal Factory

62. Exporter Press Metal International Ltd., for any manufacturer other than Press Metal International Ltd.

63. Exporter Sanchuan Aluminum Co., Ltd.

64. Exporter Shangdong Huasheng Pesticide Machinery Co.

65. Exporter Shangdong Nanshan Aluminum Co., Ltd.

66. Exporter Shanghai Canghai Aluminum Tube Packaging Co., Ltd.

67. Exporter Shanghai Dongsheng Metal

68. Exporter Shanghai Shen Hang Imp & Exp Co., Ltd.

69. Exporter Shenzhen Jiuyuan Co., Ltd.

70. Exporter Sihui Shi Guo Yao Aluminum Co., Ltd.

71. Exporter Suzhou JRP Import & Export Co., Ltd.

72. Exporter Suzhou New Hongji Precision Part Co.

73. Exporter Tai-Ao Aluminium (Taishan) Co., Ltd., for any manufacturer other than Tai-Ao Aluminium (Taishan) Co., Ltd.

74. Exporter Taogoasei America Inc.

75. Exporter Tianjin Ganglv Nonferrous Metal Materials Co., Ltd.

76. Exporter Tianjin Ruixin Electric Heat Transmission Technology Co., Ltd., for any manufacturer other than Tianjin Ruixin Electric Heat Transmission Technology Co., Ltd.

77. Exporter Top-Wok Metal Co., Ltd.

78. Exporter Traffic Brick Network, LLC

79. Exporter USA Worldwide Door Components (Pinghu) Co., Ltd., for any manufacturers other than USA Worldwide Door Components (Pinghu) Co., Ltd. or Worldwide Door Components (Pinghu) Co.

80. Exporter Whirlpool Canada L.P.

81. Exporter Whirlpool Microwave Products Development Ltd.

82. Exporter Xin Wei Aluminum Company Limited

83. Exporter Xinya Aluminum & Stainless Steel Product Co., Ltd.

84. Exporter Zhaoqing Asia Aluminum Factory Company Ltd.

85. Exporter Zhaoqing China Square Industry Limited

86. Exporter Zhejiang Anji Xinxiang Aluminum Co., Ltd.

87. Exporter Zhejiang Yongkang Listar Aluminum Industry Co., Ltd., for any manufacturer other than Zhejiang Yongkang Listar Aluminum Industry Co., Ltd.

88. Exporter Zhejiang Zhengte Group Co., Ltd.

89. Exporter Zhenjiang Xinlong Group Co., Ltd.

90. Exporter Zhongshan Gold Mountain Aluminium Factory Ltd., for any manufacturer other than Zhongshan Gold Mountain Aluminium Factory Ltd.

91. Exporter Zhuhai Runxingtai Electrical Equipment Co., Ltd.

Appendix IV

Exporters for which a review was requested that did not submit a no-shipments certification or separate-rate certification/application (including complete responses to supplemental questionnaires) and are preliminarily considered to be part of the PRC-wide entity.

1. Exporter Alnan Aluminium Co., Ltd.

2. Exporter Chiping One Stop Industrial & Trade Co., Ltd.

3. Exporter Cixi Handsome Pool Appliance Co., Ltd.

4. Exporter DongChuan Swimming Pool Equipments Co., Ltd.

5. Exporter Dongguan Golden Tiger Hardware Industrial Co., Ltd.

6. Exporter Foshan Shunde Aoneng Electrical Appliances Co., Ltd.

7. Exporter Guang Dong Xin Wei Aluminum Products Co., Ltd.

8. Exporter Guang Ya Aluminum Industries Co. Ltd.

9. Exporter Guangdong Whirlpool Electrical Appliances Co., Ltd.

10. Exporter Guangzhou Mingcan Die-Casting Hardware Products, Co., Ltd.

11. Exporter Hanyung Alcobis Co., Ltd.

12. Exporter Henan New Kelong Electrical Appliances Co., Ltd.

13. Exporter Idex Dinglee Technology (Tianjin Co., Ltd.)

14. Exporter Kong Ah International Company Limited

15. Exporter Ningbo Splash Pool Appliance Co., Ltd.

16. Exporter Samuel, Son & Co., Ltd.

17. Exporter Shenyang Yuanda Aluminum Industry Engineering Co., Ltd.

18. Exporter Skyline Exhibit Systems (Shanghai) Co., Ltd.

19. Exporter Tiazhou Lifeng Manufacturing Corporation

20. Exporter Wenzhou Shengbo Decoration & Hardware

21. Exporter Whirlpool (Guangdong)

Exporters for which a review was requested that submitted incomplete separate rate documentation and are preliminarily considered to be part of the PRC-wide entity.

22. Exporter Guangdong Zhongya Aluminum Company Limited

23. Exporter Guangzhou Jangho Curtain Wall System Engineering Co., Ltd. and Jangho Curtain Wall Hong Kong Ltd. (collectively, Jangho)

24. Exporter Nidec Sankyo (Zhejiang) Corporation

25. Exporter Taizhou Lifeng Manufacturing Corporation

26. Exporter Zhongya Shaped Aluminum (HK) Holding Limited

[FR Doc. 2014-14912 Filed 6-24-14; 8:45 am]

BILLING CODE 3510-DS-P